DEPARTMENT OF TRANSPORTATION

Federal Railroad Administration

Environmental Impact Statement for the Salinas to San Luis Obispo Portion of the Coast Corridor: Monterey and San Luis Obispo Counties, CA

AGENCY: Federal Railroad Administration (FRA), U.S. Department of Transportation (DOT).

ACTION: Notice of Intent to Prepare an Environmental Impact Statement.

SUMMARY: FRA is issuing this notice to advise the public that FRA and the California Department of Transportation (Caltrans) will jointly prepare an Environmental Impact Statement (EIS)/Environmental Impact Report (EIR) to study potential service upgrades and rail corridor improvements to the Salinas to San Luis Obispo portion of the Coast Corridor. The objective of the EIS/EIR is to evaluate alternatives and present environmental analysis to help make decisions regarding the type of service upgrades and rail improvements to be provided in the corridor, including variations in train frequency, trip time, and on-time performance. FRA is also issuing this notice to solicit public and agency input into the development of the scope of the EIS/EIR, whether to tier the environmental process, and to advise the public that public and agency participation resulting from outreach activities conducted by Caltrans and its representatives will be considered in the preparation of the EIS/EIR.

DATES: Written comments on the scope of the EIS/EIR for the Salinas to San Luis Obispo Portion of the Coast Corridor should be provided to Caltrans no later than September 10, 2012. Public scoping meetings are scheduled on August 28 and August 29, 2012 at the times and locations identified in the Addresses section below.

ADDRESSES: Written comments on the scope of this study should be sent to Ms. Emily Burstein, Division of Rail, Office of Planning and Policy, California Department of Transportation, 1120 N Street, MS 74, Sacramento, CA 95814 or via email to coastcorridorscopingcomments@circlepoint.com. Comments may also be provided orally or in writing at the public scoping meetings scheduled at the following locations:

Salinas

Tuesday, August 28, 2012, 3:30 p.m.-6:00 p.m., Transportation Authority for Monterey County (TAMC), TAMC Conference Room, 55 Plaza Circle #B, Salinas, CA 93901.

San Luis Obispo

Wednesday, August 29, 2012, 3:30 p.m.-6:00 p.m., San Luis Obispo County Library Community Room, 995 Palm Street, San Luis Obispo, CA 93401.

FOR FURTHER INFORMATION CONTACT: Regarding the environmental review please contact: Ms. Emily Burstein, Division of Rail, Office of Planning and Policy, California Department of Transportation, 1120 N Street, MS 74, Sacramento, CA 95814 (telephone: (916) 654-6932) or Ms. Stephanie Perez, Environmental Protection Specialist, Office of Railroad Policy and Development, Federal Railroad Administration, 1200 New Jersey Avenue SE., Mail Stop 20, Washington, DC 20590 (telephone: (202) 493-0388).

SUPPLEMENTARY INFORMATION:

Purpose and Need

The greater Coast Corridor region from San Jose, California to Los Angeles, California faces significant mobility challenges today. These challenges are likely to continue in the future as continued growth in population, employment, and tourism activity is expected to generate increased travel demand. By 2040, statewide population is expected to grow substantially, further straining the existing transportation network. An effective rail system is necessary to meet the future mobility needs of residents, businesses, and visitors. The Coast Corridor faces continuing transportation challenges as evidenced by the following:

• Constrained Travel Options—While the Coast Corridor is served by a transportation system that includes air, highway, and rail modes system access and capacity is insufficient to meet future travel demand. Air access is limited for many residents because major airports are located at a substantial distance outside the Salinas to San Luis Obispo portion of the corridor. This portion of the corridor is served by a single major highway—US 101—which experiences frequent congestion and travel delays. Amtrak offers a single daily Coast Starlight passenger service along the corridor and trains are often delayed due to the primarily single-track rail system operating beyond its design capacity.

• Significant Highway Congestion—While travel by automobile is expected to meet the majority of future travel demand, this increased use will result in worsening of existing congestion. Congestion is particularly acute at the corridor's urban chokepoints and is likely to worsen, making travel times unreliable. In addition, space constraints limit the potential to expand the highway system.

• Constrained Rail System Capacity—Corridor rail service could accommodate an increasing portion of projected travel demand growth by providing an alternative mode to automobile travel, but rail service is constrained by infrastructure that is significantly undersized for the volumes it currently accommodates, much less future service, without significant system improvements. Moreover, the existing Coast Starlight service is often fully booked during peak travel periods.

• Aging Rail Infrastructure—Investment in corridor rail service has not kept pace with population and travel demand growth, and many tracks, signals and bridges have not been upgraded or improved in decades. Improvements would allow shorter travel times and greater reliability, making rail a more attractive and competitive choice.

• Safety Concerns - Increasing potential for accidents in congested rail chokepoints underscores the need for upgraded signaling and infrastructure investments. Growing frequency of rail-related collisions call for improved highway/rail crossings and new or upgraded pedestrian crossings.

• Need for Increased Travel Capacity Without Impacting Air Quality and Natural Resources—Highway capacity improvements can have negative impacts on regional and local air quality as well as the efficient use of natural resources. Simultaneously expanding travel capacity while meeting federal and state air quality standards will likely require reductions in total vehicle miles traveled. Rail system improvements offer the opportunity to achieve air quality benefits with minimal impact on natural resources.

In light of the transportation challenges listed above, Caltrans has identified rail improvements to the Coast Corridor as an opportunity to improve mobility and reliability in this congested part of the state's rail system. The proposed improvements would allow for a more reliable, safe, competitive, and attractive intercity travel option. These improvements would provide additional capacity to relieve some of the projected near- and long-term demand on the highway system, potentially slowing the need to further expand highways and airports in this portion of the corridor, or reduce the scale of those expansions, including their associated cost and impacts on communities and the environment. Rail improvements would augment the highway system, creating an interconnected, multimodal solution, allowing for better mobility throughout the corridor. Improved rail infrastructure would contribute to the economic viability of the Coast Corridor and provide connectivity with local transit systems.

Environmental Review Process

The EIS/EIR will be developed in accordance with the National Environmental Policy Act of 1969 (NEPA), 42 U.S.C. 4321 and the Council on Environmental Quality (CEQ) regulations (40 CFR part 1500 et seq.) implementing NEPA; the California Environmental Quality Act (CEQA), Division 13, Public Resources Code; and FRA's Procedures for Considering Environmental Impacts (64 FR 28545; May 26, 1999). FRA and Caltrans intend to use a tiered process for the completion of the environmental review of the Coast Corridor, as provided for in 40 CFR 1508.28 and FRA Procedures.

FRA is considering the option of preparing a Tier 1 EIS/EIS. “Tiering” is a staged environmental review process often applied to environmental reviews for complex transportation projects. If used, the initial phase of a tiered process will address broad questions and likely environmental effects for the Salinas to San Luis Obispo portion of the Coast Corridor including, but not limited to, the type of service(s) being proposed, major infrastructure components, and identification of major facility capacity constraints. If tiering is not used, the EIR/EIS will analyze, at a greater level of detail, site-specific proposals that would otherwise be addressed in subsequent phases or tiers based on the decisions made in a Tier 1 EIS/EIR.

Alternatives

Alternatives to be evaluated and analyzed in the EIS/EIR include a no-action (No-Project or No-Build) scenario and an action alternative consisting of multiple options for the construction of various passenger Coast Corridor improvements between Salinas and San Luis Obispo. Possible environmental impacts from the action alternative include displacement of commercial and residential properties; disproportionate impacts to minority and low-income populations; community and neighborhood disruption; increased noise and vibration along the rail corridor; traffic impacts associated with stations; effects to historic properties or archaeological sites; impacts to parks and recreation resources; visual quality effects; exposure to seismic and flood hazards; impacts to water resources, wetlands, and sensitive biological species and habitat; land use compatibility impacts; energy use; and impacts to agricultural lands.

No Action Alternative

The no action alternative is defined to serve as the baseline for comparison of all alternatives. This alternative represents California's transportation system (highway, air, and rail) as it exists, and as it would exist after completion of programs or projects currently funded or being implemented. The no-action alternative would draw upon the following sources of information:

State Transportation Improvement Program (STIP).

Regional Transportation Plans (RTPs) for all modes of travel.

Airport plans.

Passenger rail plans.

Action Alternative

This alternative would facilitate expanded passenger service along the Coast Corridor. The Action Alternative will have “options” consisting of logical groupings of improvements that take into account the likely timing of such improvements and possible funding scenarios. The improvements to be analyzed in this alternative may include:

Track upgrades.

Curve realignments.

Siding extensions and upgrades.

Addition of second main track.

Grade separations.

New Stations.

Station and platform upgrades.

Installation of Centralized Traffic Control (CTC) and power switches.

New or upgraded pedestrian crossings.

Scoping and Comments

FRA encourages broad participation in the EIS/EIR process during scoping and subsequent review of the resulting environmental document. Letters soliciting comments were sent to appropriate Federal, State, and local agencies, and appropriate railroads. Comments and suggestions are invited from all interested agencies and the public at large to insure the full range of issues related to the proposed action and all reasonable alternatives are addressed and all significant issues are identified. In particular, FRA is interested in determining whether there are areas of environmental concern where there might be the potential for significant impacts identifiable at a program level. Public agencies with jurisdiction are requested to advise the FRA and Caltrans of the applicable permit and environmental review requirements of each agency, and the scope and content of the environmental information that is germane to the agency's statutory responsibilities in connection with the proposed improvements.

Issued in Washington, DC, on August 13, 2012.
Corey Hill,
Director, Rail Project Development and Delivery.

[FR Doc. 2012-20245 Filed 8-16-12; 8:45 am]

BILLING CODE 4910-06-P